DEPARTMENT OF THE INTERIOR

Bureau of Land Management

[CO-910-04-0777-XX]

Notice of Bureau of Land Management Front Range Resource Advisory Council Call for Nominations; Colorado

AGENCY: Bureau of Land Management, Interior.

ACTION: Notice.

SUMMARY: The Bureau of Land Management (BLM) Front Range Resource Advisory Council is hosting a call for nominations for a position on the advisory council. There is a vacated seat in category Two representing archaeology/history. Upon appointment, the individual selected to this position will fill the seat until August 20, 2005, the remainder of this position's term.

DATES: BLM will accept public nominations until October 21, 2004. Applicants are requested to submit a completed nomination form and nomination letters to the address listed below no later than October 21, 2004.

ADDRESSES: Send nominations to: Ken Smith, Cañon City Field Office, BLM, 3170 E. Main Street, Cañon City, Colorado 81212; 719-269-8553.

FOR FURTHER INFORMATION CONTACT: Hillerie C. Patton, Bureau of Land Management, (303) 239-3671.

SUPPLEMENTARY INFORMATION: Individuals may nominate themselves or others. Nominees must be residents of Colorado. BLM will evaluate nominees based on their education, training, experience, and their knowledge of the geographical area of the RAC. Nominees should demonstrate a commitment to collaborative resource decision making.

The following must accompany nominations:

• Letters of reference from represented interest or organizations.

• A completed background information nomination form, (contact Ken Smith at 719-269-8553 to obtain a nomination form).

• Any other information that highlights the nominees qualifications.

The BLM Colorado State Office and Cañon City Field Office will issue press releases providing additional information for submitting nominations with specifics about the category and member position available in the State. These press releases will be available on September 21, 2004.

The Federal Policy and Management Act (FLPMA) (43 U.S. C. 1730) directs the Secretary of the Interior to involve the public in planning and issues related to management of lands administered by BLM. Section 309 of FLPMA directs the Secretary to select 10 to 15 member citizen-based advisory councils, which are consistent with the requirements of the Federal Advisory Committee Act (FACA). As required by FACA, RAC membership must be balanced and representative of the various interests concerned with the management of the public lands. The BLM regulations governing RACs are found at 43 CFR part 1784. These regulations describe three general representative categories:

Category One—Holders of Federal grazing permits and representatives of energy and mineral development, timber industry, transportation or rights-of-way, off-highway vehicle use, and commercial recreation;

Category Two—Representatives of nationally or regionally recognized environmental organizations, archaeological and historic interests, dispersed recreation, and wild horse and burro groups;

Category Three—Holders of State, county or local elected office, employees of a State agency responsible for management of natural resources, academicians involved in natural sciences, representatives of Indian tribes, and the affected public-at-large.

Dated: August, 25, 2004.
Ron Wenker,
Colorado State Director, Bureau of Land Management.

[FR Doc. 04-21128 Filed 9-20-04; 8:45 am]

BILLING CODE 4310-JB-P